NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: May 10, 2011 at 8 a.m. through May 11, 2011 at 3:15 p.m.

PLACE: National Science Foundation, 4201 Wilson Blvd., Room 1235, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

STATUS: Some portions open, some portions closed.

UPDATES: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

Open Sessions (May 10, 2011)

8 a.m.-8:15 a.m.

8:15 a.m.-9 a.m.

9 a.m.-10:30 a.m.

11 a.m.-12 p.m.

1 p.m.-2:30 p.m.

2:30 p.m.-4 p.m.

Closed Session (May 10, 2011)

10:30 a.m.-11 a.m.

Open Sessions (May 11, 2011)

8 a.m.-9 a.m.

9 a.m.-10 a.m.

10 a.m.-10:30 a.m.

10:30 a.m.-11 a.m.

11:15 a.m.-12:15 p.m.

1:15 p.m.-1:30 p.m.

2:15 p.m.-3:15 p.m.

Closed Sessions (May 11, 2011)

11 a.m.-11:15 a.m.

1:30 p.m.-1:45 p.m.

1:45 p.m.-2:15 p.m.

Matters To Be Discussed

May 10, 2011

Open Session—Chairman's Introductory Remarks 8 a.m.-8:15 a.m.

CPP Subcommittee on Polar Issues (SOPI)

Open Session: 8:15 a.m.-9 a.m.

• Chairman's Remarks

• Approval of Minutes

• OPP Director's Remarks

• Report on CTAM Camp

• Update on Outreach Activities

Committee on Audit and Oversight (A&O)

Open Session 9 a.m.-10:30 a.m.

• Chairman's Remarks

• Approval of Minutes

• FY 2010 Merit Review Report

• OIG Semi-Annual Report Transmittal

• Inspector General's Update

• FY 2011 Financial Statement Audit

• Chief Financial Officer's Update

• Human Resources Update

A&O Closed Session 10:30 a.m.-11 a.m.

• Chairman's Remarks

• Approval of Minutes

• Procurement Activities

• Investigative Update

Plenary

Open Session: 11 a.m.-12 p.m.

• Presentation from Dr. Charles Vest, Vannevar Bush Award Recipient

• Presentation from Dr. Casey Dunn, Alan T. Waterman Award Recipient

Task Force on Merit Review (MR)

Open Session: 1 p.m.-2:30 p.m.

• Chairman's Remarks

• Approval of Minutes

• Summary of Input from Stakeholder Groups

• Discussion of Preliminary Task Force Recommendations

Committee on Science and Engineering Indicators (SEI)

Open Session: 2:30 p.m.-4 p.m.

• Chairman's Remarks

• Approval of Minutes

• Review of Science and Engineering Indicators 2012 Chapter Drafts

• Discussion of Science and Engineering Indicators 2012 Companion Piece Topics

May 11, 2011

Committee on Education and Human Resources (CEH)

Open Session: 8 a.m.-9 a.m.

• Chairman's Remarks

• Approval of Minutes

• Discussion of CEH STEM Education Priority “Action Items”

• Strategic Planning for the NSF Education Portfolio

• Discussion of CEH STEM Education Prospective Horizon “Action Items”

CSB Task Force on Data Policies

Open Session: 9 a.m.-10 a.m.

• Chairman's Remarks

• Approval of Minutes

• Discussion of March Workshop

• Update on related activities from NSF

CPP Task Force on Unsolicited Mid-Scale Research (MS)

Open Session: 10 a.m.-10:30 a.m.

• Approval of Minutes

• Summary of March 31, 2011 Discussion Group Meeting

• Summary of April 19, 2011 Task Force Teleconference

• Update on the Survey and June 5-7, 2011 Workshop Planning

Committee on Strategy & Budget (CSB)

Open Session 10:30 a.m.-11 a.m.

• Chairman's Remarks

• Approval of Minutes

• Development and Approval Process of RFPs for Recompetitions

• NSF FY 2011 and FY 2012 Budget Updates

• Status of ARRA Funding

CSB Closed Session 11 a.m.-11:15 a.m.

• FY 2013 Budget Development

• Long Range Planning

Plenary

Open Session: 11:15 a.m.-12:15 p.m.

• Presentation from Dr. Moira Gunn, Public Service Award Recipient, Individual

• Presentation from Dr. Dennis Bartels for the Exploratorium, Public Service Award Recipient, Group

Executive Committee

Open Session: 1:15p.m.-1:30 p.m.

• Chairman's Remarks

• Approval of Minutes

• Approval of the Executive Committee Annual Report

Plenary

Executive Closed Session: 1:30 p.m.-1:45 p.m.

• Approval of Minutes

• Election of Executive Committee Members

• Board Office Personnel

Plenary

Closed Session: 1:45 p.m.-2:15 p.m.

• Approval of Minutes

• Awards and Agreements

• Closed Committee Reports

Plenary

Open Session: 2:15 p.m.-3:15 p.m.

• Approval of Minutes

• Chairman's Report

• Director's Report

• Open Committee Reports

Meeting Adjourns 3:15 p.m.

Ann Ferrante,
National Science Board Office.

[FR Doc. 2011-10846 Filed 4-29-11; 4:15 pm]

BILLING CODE 7555-01-P